DEPARTMENT OF COMMERCE

Bureau of Industry and Security

15 CFR Part 744

[Docket No. 041222360-5141-02]

RIN [0694-AD24]

Licensing Policy for Entities Sanctioned Under Specified Statutes; License Requirement for Certain Sanctioned Entities; and Imposition of License Requirement for Tula Instrument Design Bureau

AGENCY: Bureau of Industry and Security, Commerce.

ACTION: Final rule.

SUMMARY: This document makes final, without change, a previously published interim final rule that stated the Bureau of Industry and Security's licensing policy regarding transactions involving entities sanctioned by the State Department under three specified statutes, imposed a new license requirement for certain entities sanctioned by the State Department, and identified one specific entity subject to this new license requirement, Tula Instrument Design Bureau of Russia.

DATES: Effective date: June 9, 2005.

FOR FURTHER INFORMATION CONTACT: William Arvin, Regulatory Policy Division, Office of Exporter Services at warvin@bis.doc.gov or 202-482-2440.

SUPPLEMENTARY INFORMATION: On March 7, 2005, the Bureau of Industry and Security (BIS) published an interim final rule with a request for comments. The comment period expired on May 6, 2005. BIS received no comments on the interim final rule and is now adopting it without change in this final rule.

The interim final rule of March 7 set forth BIS's licensing policy for entities subject to sanctions imposed by the State Department under the Iran-Iraq Arms Nonproliferation Act of 1992 (Pub. L. 102-484), the Iran Nonproliferation Act of 2000 (Pub. L. 107-178) and section 11B(b)(1) of the Export Administration Act of 1979 (also known as the Missile Technology Control Act of 1990). The interim final rule also imposed a new license requirement for certain entities sanctioned by the State Department, and identified one specific entity, Tula Instrument Design Bureau of Russia (Tula), subject to this new license requirement. The interim final rule placed Tula on the Entity List (15 CFR part 744, supp. No. 4), thereby informing the public that a license is required to export or reexport to Tula any item subject to the EAR other than EAR99 items, that License Exceptions may not be used for exports or reexport to Tula, and that BIS's policy is generally to deny applications for licenses to export or reexport such items to Tula.

The interim final rule requested comments no later than May 6, 2005. BIS has received no comments on the interim final and is now adopting it without change in this final rule. In doing so, BIS is not negating or in any way modifying the changes to the Entity List made subsequent to the March 7, 2005 publication of the interim final rule and prior to publication of this final rule. Specifically, the additions to the Entity List at 70 FR 11861 (March 10, 2005) are unaffected by this final rule.

Although the Export Administration Act of 1979 (EAA), as amended, expired on August 20, 2001, Executive Order 13222 of August 17, 2001 (3 CFR, 2001 Comp., p. 783 (2002)) as extended by the Notice of August 6, 2004, 69 FR 48763 (August 10, 2004), continues the EAR in effect under the International Emergency Economic Powers Act (IEEPA).

Rulemaking Requirements

1. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 58 minutes to prepare and submit form BIS-748. Miscellaneous and recordkeeping activities account for 12 minutes per submission.

Burden hours associated with the Paperwork Reduction Act and Office and Management and Budget control number 0694-0088 are not impacted by this regulation. Send comments regarding these burden estimates or any other aspect of these collections of information, including suggestions for reducing the burden, to David Rostker, OMB Desk Officer, by e-mail at david_rostker@omb.eop.gov or by fax to (202) 395-7285; and to the Regulatory Policy Division, Bureau of Industry and Security, Department of Commerce, P.O. Box 273, Washington, DC 20044.

3. This rule does not contain policies with Federalism implications as that term is defined in Executive Order 13132.

4. The provisions of the Administrative Procedure Act (5 U.S.C. 553) requiring notice of proposed rulemaking, the opportunity for public participation, and a delay in effective date, are inapplicable because this regulation involves a military or foreign affairs function of the United States (see 5 U.S.C. 553(a)(1)). Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et. seq., are not applicable.

List of Subjects in 15 CFR Part 744

Exports, Reporting and recordkeeping requirements, Terrorism.

Accordingly, BIS adopts, without change, the interim final rule published at 70 FR 10865, March 7, 2005 as a final rule.

Dated: June 3, 2005.
Matthew S. Borman,
Deputy Assistant Secretary for Export Administration.

[FR Doc. 05-11418 Filed 6-8-05; 8:45 am]

BILLING CODE 3510-33-P